NUCLEAR REGULATORY COMMISSION

Advisory Committee on Reactor Safeguards (ACRS)

Meeting of the Subcommittee on Early Site Permits; Notice of Meeting

The ACRS Subcommittee on Early Site Permits will hold a meeting on December 3, 2008, Room T-2B3, 11545 Rockville Pike, Rockville, Maryland.

The entire meeting will be open to public attendance.

The agenda for the subject meeting shall be as follows: Wednesday, December 3, 2008—8:30 a.m. until 5 p.m.

The Subcommittee will review and discuss the Early Site Permit (ESP) and Limited Work Authorization application submitted by Southern Nuclear Operating Company (Southern Nuclear or SNC—the applicant) for the Vogtle ESP Site (Docket 52-011) and the associated NRC staff safety evaluation report (SER) and closure of open items. The Committee will review the application and the final SER to fulfill the requirement of 10 CFR 52.23 that the ACRS report on those portions of an ESP application that concern safety. The Subcommittee will hear presentations by and hold discussions with representatives of the NRC staff, Southern Nuclear Operating Company, and other interested persons regarding this matter. The Subcommittee will gather information, analyze relevant issues and facts, and formulate proposed positions and actions, as appropriate, for deliberation by the full Committee.

Members of the public desiring to provide oral statements and/or written comments should notify the Designated Federal Officer, Derek Widmayer (telephone 301-415-7366) 5 days prior to the meeting, if possible, so that appropriate arrangements can be made. Electronic recordings will be permitted. Detailed procedures for the conduct of and participation in ACRS meetings were published in the Federal Register on October 6, 2007, (73 FR 58268-58269).

Further information regarding this meeting can be obtained by contacting the Designated Federal Officer between 8 a.m. and 4:45 p.m. (ET). Persons planning to attend this meeting are urged to contact the above named individual at least two working days prior to the meeting to be advised of any potential changes to the agenda.

Dated: November 10, 2008.
Girija Shukla,
Acting Chief, Reactor Safety Branch, Advisory Committee on Reactor Safeguards.

[FR Doc. E8-27318 Filed 11-17-08; 8:45 am]

BILLING CODE 7590-01-P